DELAWARE RIVER BASIN COMMISSION

Notice of Commission Meeting and Public Hearing

Notice is hereby given that the Delaware River Basin Commission will hold an informal conference followed by a public hearing on Wednesday, July 19, 2006. The hearing will be part of the Commission's regular business meeting. Both the conference session and business meeting are open to the public and will be held at the Commission's office building, located at 25 State Police Drive in West Trenton, New Jersey.

The conference among the commissioners and staff will begin at 10:15 a.m. Topics of discussion will include: A presentation by a representative of the Philadelphia District of the U.S. Army Corps of Engineers on the work plan for a $1 million grant to the District by the Assistant Secretary of the Army to enhance multi-jurisdictional use and management of the water resources of the Delaware Basin; a presentation by Dr. Anthony J. Broccoli of Rutgers University on climate change and sea level rise; a presentation by Robert Molzahn of the Water Resources Association of the Delaware River Basin and David Sayers of the DRBC on a recommended policy for water transfers, and a presentation on the report and recommendations of the Commission's TMDL Implementation Advisory Committee on reducing loadings of PCBs to the Delaware Estuary.

The subjects of the public hearing to be held during the 1:30 p.m. business meeting include the dockets listed below:

1. City of Harrington D-88-27 CP-3. An application for the renewal of a ground water withdrawal project to continue withdrawal of 21 mg/30 days to supply the applicant's public water supply distribution system from existing Wells Nos. 1, 2, 3 and 4 in the Frederica Aquifer. The project is located in the Browns Branch Watershed in the City of Harrington, Kent County, Delaware.

2. Joseph Jackewicz, Sr. D-91-53-2. An application for the renewal of a ground and surface water withdrawal project to continue withdrawal of 219.8 million gallons per thirty days (mg/30 days) to supply the applicant's agricultural irrigation system from replacement Well No. Townsend 3, eight existing wells and one existing surface water intake. The project is located in the Tidbury Creek, Cypress Branch and Double Run watersheds in the Town of Magnolia, Kent County, Delaware.

3. Borough of Richland D-92-1 CP-2. An application for the renewal of a ground water withdrawal project to continue withdrawal of 5.2 mg/30 days to supply the applicant's public water supply distribution system from existing Wells Nos. 1, 2, 3, 4 and 5 and new Well No. 6 in the Stonehenge, Millbach, Hardyston and Crystalline Rock formations. The project is located in the Mill Creek Watershed in Richland Borough, Lebanon County, Pennsylvania.

4. Evesham Municipal Utilities Authority D-98-15 CP-1. An application for approval of a ground water withdrawal project to continue to supply up to 149 mg/30 days of water to the applicant's distribution system through new Aquifer-Storage-Recovery Well No. 14 and existing wells Nos. 4 through 13 without an increase in existing allocation. The project is located in the Rancocas Creek Watershed in Evesham Township, Burlington County, New Jersey. (This was NAR'd as D-98-15 CP.)

5. Pennsylvania American Water Company D-2003-32 CP. An application for approval of a ground water withdrawal project to supply up to 4.32 mg/30 days of water to the applicant's public water supply distribution system from new Well No. DG-13 in the Brunswick Formation, and to retain the existing withdrawal from all wells to 29.14 mg/30 days. The project is located in the Schuylkill River watershed in Amity Township, Berks County, Pennsylvania.

6. Horsehead Corporation D-67-196-2. An application for a change of ownership and a docket modification for the discharge of non-contact cooling water. The discharges of approximately 0.15 million gallons per day (mgd) from Outfall 004 and 0.31 mgd from Outfall 005 are associated with recycling electric arc furnace dust and the production of metal powders. The discharges from Outfall 004 and Outfall 005 are to the Aquashicola Creek, a tributary to the Lehigh River. The facility is located in Palmerton Borough, Carbon County, Pennsylvania.

7. Delaware Department of Natural Resources and Environmental Control (DNREC) D-84-10 CP-4. An application to amend the DRBC Comprehensive Plan and to revise Docket No. D-84-10 CP (Supplement No. 1), Water Supply Plan for northern New Castle County, Delaware. The applicant proposes to delete Churchman's Marsh and Thompson Station Reservoirs and the development of additional ground water supplies at the Delaplane Manor well site from the Comprehensive Plan, and incorporate into the Comprehensive Plan the projects identified in Tables 5.2 and 5.4 in the Eighth Progress Report of the Delaware Water Supply Coordinating Council, dated March 8, 2006.

8. Bart Golf Club, Inc. D-92-24-2. An application for renewal of a surface water withdrawal project to supply up to 11.0 million gallons per thirty days of water for supplemental irrigation of the applicant's Hickory Valley Golf Club from an existing surface water intake located on Swamp Creek at the confluence of Schlegel Run. The allocation is a reduction from the previous allocation of 15 mg/30 days. The project is located in the Swamp Creek Watershed in New Hanover Township, Montgomery County, Pennsylvania and is located in the Southeastern Pennsylvania Ground Water Protected Area.

9. Bridgeport Disposal, LLC D-93-63-2. An application to update and renew an existing industrial wastewater treatment plant (IWTP) discharge docket. The former commercial hazardous waste treatment facility still includes an on-site biological treatment system and a groundwater and leachate treatment system. The docket renewal will reflect changes in operations since the facility ceased in 2001 to serve as a commercial hazardous waste treatment facility. The IWTP discharges approximately 0.47 mgd of treated wastewater through a subsurface diffuser to Raccoon Creek, a tributary to Water Quality Zone 4 of the Delaware River. The facility is located in Bridgeport, Gloucester County, New Jersey.

10. Town of Smyrna D-93-72 CP-2. An application to replace the withdrawal of water from Well No. 1A in the applicant's water supply system because it has become an unreliable source of supply. The applicant requests that the withdrawal from replacement Well No. 3 and existing Wells Nos. 1 and 2A be increased from 33.99 mg/30 days to 40 mg/30 days in order to meet projected increases in service area demand. The project is located in the Columbia/Cheswold Formation in the Smyrna River Watershed in the Town of Smyrna, Kent County, Delaware.

11. North Coventry Municipal Authority D-97-1 CP-2. An application to expand the docket holder's existing waste water treatment plant (WWTP) from 1.5 million gallons per day (mgd) to 2.01 mgd. The project includes the addition of new screening facilities, increased aeration, an additional clarifier and two new aerobic digesters. The WWTP discharges approximately 0.7 mgd to the Schuylkill River. The facility is located in North Coventry Township, Chester County, Pennsylvania.

12. Green-Waltz Water Company/Nestle Waters North America Inc. D-98-55-3. An application for approval of a ground water withdrawal project to supply up to 4.8 mg/30 days of water for bulk water supply to the applicant's bottling plant from new Spring Water Borehole B-2, in the Martinsburg Formation. The applicant has requested an increase in total allocation from 11.7 mg/30 days to 16.5 mg/30 days. The project is located in the Waltz Creek Watershed in Washington Township, Northampton County, Pennsylvania.

13. Ricci Bros. Sand Co., Inc., D-2005-10-1. An application for approval of a surface water withdrawal project to supply up to 182.0 mg/30 days from four existing and one proposed surface water intakes for sand and gravel processing. The surface water intakes are located on a former mining pond which is in connection with and fed by groundwater. The intakes provide water to process the sand and gravel in a loop system which recycles approximately 90% of the water back to the pond. The allocation will be limited to 182.0 mg/30 days. The project is located in the Dividing Creek Watershed in Commercial and Downe Townships, Cumberland County, New Jersey.

14. Green Walk Trout Hatchery D-2006-8-1. An application for approval of a ground water withdrawal project to supply up to 12.96 mg/30 days of water to the applicant's commercial trout hatchery from existing Wells Nos. W-2, W-5 and W-6. The total allocation will be limited to 12.96 mg/30 days. Ground water withdrawals will be used to augment the flow of Greenwalk Creek and provide cold, oxygenated water to the applicant's trout stocking facility. The project is located in the Waltz Creek Watershed in Washington Township, Northampton County, Pennsylvania.

15. Bedminster Municipal Authority D-2006-10 CP-1. An application for the construction of a new .06 mgd WWTP, a new sewer collection system and sewage pumping station and a force main to service a proposed 217-unit single family home subdivision. The Pennland Farm WWTP will discharge to an unnamed tributary of Deep Run Creek, which is a tributary to the Tohickon Creek, tributary to the Lower Delaware River Special Protection Waters. The facility will be located in Bedminster Township, Bucks County, Pennsylvania.

16. Tidewater Utilities, Inc. D-2006-12 CP-1. An application for approval of a ground water withdrawal project to supply up to 5.99 mg/30 days of water to meet the demands of the applicant's East District public water supply distribution system from new Wells MV-01, MV-02, VM-01 and VM-02R. The project is located in the Mt. Laurel Formation in the C&D Canal East Watershed in the Town of Middletown-Odessa, New Castle County, Delaware.

17. Skytop Lodge Corporation D-2006-13-1. An application for approval of an existing wastewater treatment plant located at Skytop Lodge. The existing WWTP is designed to discharge 0.075 mgd to the Brodhead Creek, which converges with the Delaware River at River Mile 213, within a reach classified as “Outstanding Basin Waters.” The facility is located in Barrett Township, Monroe County, Pennsylvania.

18. Blue Ridge Country Club D-2006-18-1. An application for approval of a ground and surface water withdrawal project to supply up to 10.59 mg/30 days of water to the applicant's golf course irrigation system from existing Wells Nos. 1, 2, 4 and 5 and a constructed pond. The project is located in the Walcksville Member of the Catskill Formation in the Fireline Creek Watershed in Lower Towamensing Township, Carbon County, Pennsylvania.

19. Coolbaugh Township D-2006-23 CP-1. An application for approval to upgrade and rerate an existing WWTP to add advanced secondary treatment and allow an increase from 0.049 mgd to 0.052 mgd. The plant discharges to the Tobyhanna Creek in the Lehigh River Watershed. The project is located in the drainage area of the Lower Delaware River Management Plan in Coolbaugh Township, Monroe County, Pennsylvania. The WWTP will continue to serve a portion of Coolbaugh Township only and will discharge through the existing outfall, which is upstream from F.E. Walter Dam and Pocono Lake.

In addition to the public hearing on the dockets listed above, the Commission's 1:30 p.m. business meeting will include a public hearing on a proposed resolution to ratify a Decree Party agreement for banking the 2006-2007 excess release quantity. The Commission also will consider action on: A resolution authorizing the Executive Director to enter into a contract for analysis of benthic macroinvertebrate samples from the Delaware River utilizing Clean Water Act Section 106 funds; a resolution authorizing the Executive Director to accept funds from the Federal Emergency Management Agency for the development of multi-jurisdictional flood mitigation plans in four New Jersey counties; a resolution to approve a DRBC records retention schedule; and a resolution authorizing the Executive Director to enter into a contract for landscape architectural services to develop the Ruth Patrick River Garden, utilizing funds provided by the William Penn Foundation.

The meeting will also include: adoption of the Minutes of the Commission's May 10, 2006 business meeting; announcements; a report on basin hydrologic conditions; a report by the Executive Director; a report by the Commission's General Counsel; and an opportunity for public dialogue.

In addition, supplemental notice is hereby provided for Docket No. D-2002-34 CP, issued on September 3, 2003, by which the Commission approved a ground water allocation for the New Castle County distribution system of the Artesian Water Company, Inc. (“Artesian”). The docket was reissued on May 18, 2005 as Docket D-2002-34 CP-2 to accommodate a modification unrelated to this supplemental notice. Both the 2003 and 2005 dockets provided for multiple ground water withdrawals from approximately 40 wells in the more than one dozen wellfields comprising Artesian's New Castle County distribution system. The purpose of this supplemental notice is to highlight the inclusion in Docket D-2002-34 CP and continuation in Docket D-2002-34 CP-2 of New Well No. 4 to supply up to 6.48 million gallons per 30 days (mg/30 days) of water to the applicant's Artisan's Village public water supply distribution system. The addition of New Well No. 4 entailed no increase in the maximum combined withdrawal from the Artisan's Village wellfield, which remained unchanged by Docket D-2002-34 CP, at 90.72 mg/30 days. Although a notice of application received (NAR) was published for the proposed new well on September 11, 2002, the public notice issued in advance of the September 3, 2003 hearing did not highlight approval of the well. The modified docket issued by the Commission to Artesian Water Company in 2005 included no change associated with the Artisan's Village distribution system. Any person seeking a hearing to review the Commission's action in approving New Well No. 4 in the Artisan's Village wellfield may request a hearing in accordance with Article 6 of the Commission's Rules of Practice and Procedure, provided that such a request is received by the Commission within 30 days of the date this notice appears in either the Federal Register or the Pennsylvania Code and Bulletin, whichever date is later.

Draft dockets, the resolutions scheduled for public hearing on July 19, 2006, and the dockets associated with the supplemental notice provided above will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: June 21, 2006.
Pamela M. Bush,
Commission Secretary.

[FR Doc. E6-10226 Filed 6-28-06; 8:45 am]

BILLING CODE 6360-01-P